SECURITIES AND EXCHANGE COMMISSION

[Release No. 35-27179]

Filings Under the Public Utility Holding Company Act of 1935, as Amended (“Act”)

May 26, 2000.

Notice is hereby given that the following filing(s) has/have been made with the Commission pursuant to provisions of the Act and rules promulgated under the Act. All interested persons are referred to the application(s) and/or declaration(s) for complete statements of the proposed transaction(s) summarized below. The application(s) and/or declaration(s) and any amendment(s) is/are available for public inspection through the Commission's Branch of Public Reference.

Interested persons wishing to comment or request a hearing on the application(s) and/or declaration(s) should submit their views in writing by June 19, 2000, to the Secretary, Securities and Exchange Commission, Washington, D.C. 20549-0609, and serve a copy on the relevant applicant(s) and/or declarant(s) at the address(es) specified below. Proof of service (by affidavit or, in the case of an attorney at law, by certificate) should be filed with the request. Any request for hearing should identify specifically the issues of facts or law that are disputed. A person who so requests will be notified of any hearing, if ordered, and will receive a copy of any notice or order issued in the matter. After June 19, 2000, the applicant(s) and/or declaration(s), as filed or as amended, may be granted and/or permitted to become effective.

Alliant Energy Corporation, et al. (70-9323)

Alliant Energy Corporation (“Alliant”), a registered holding company, its wholly owned intermediate nonutility holding company, Alliant Energy Resources, Inc. (“AER”), both located at 222 West Washington Avenue, Madison, Wisconsin 53703, and AER's nonutility subsidiary, Heartland Properties, Inc. (“HPI” and together with Alliant and AER, “Applicants”), 122 West Washington Avenue, 6th Floor, Madison, Wisconsin 53703, have filed an post-effective amendment, under section 9(c)(3) of the Act and rule 54 under the Act, to an application previously filed under the Act.

Under the terms of an order dated April 14, 1998 (HCAR No. 26856) (“1998 Order”), Alliant is currently authorized to hold passive investments, through HPI, in low-income housing projects (“LIHTC Properties”).¹ Under the terms of the 1998 Order, HPI indirectly owns a 1% general partnership interest in an investment fund, more particularly described below, that indirectly holds limited partnership interests in seventeen LIHTC Properties (“Fund Properties”), nine of which are located outside the Alliant service territory. In addition to the investments permitted in the 1998 Order, Applicants are authorized by order dated August 13, 1999 (HCAR No. 27060) to invest up to $50 million (“Investment Limitation”) from time to time over a five-year period to acquire additional LIHTC Properties in the Alliant Energy service territory.

¹ The Commission determined in the 1998 Order that HPI's interests in 84 LIHTC Properties were retainable under section 9(c)(3) of the Act, because the interests were acquired to generate tax credits under section 42 of the Internal Revenue Code and they were being converted into passive investments.

The investment fund, Heartland Properties Equity Investment Fund I (“Fund”), is a limited partnership that holds limited partnership interests ranging between 88.9% and 99% in several other limited partnerships that own the Fund Properties. HPI's 1% general partnership interest in the Fund is held by its wholly owned subsidiary, Heartland Fund I, Inc. Minnesota Life Insurance Company (“MLIC”) is the sole limited partner in the Fund with a 99% limited partnership interest.

HPI has been approached by MLIC about the possibility of selling its limited partnership interest in the Fund to HPI. In order to consummate the transaction, Applicants now propose to modify the existing limitation on investments in LIHTC Properties located outside of the year's service territory, for the specific purpose of acquiring MLIC's limited partnership interest in the Fund. The expected purchase price of approximately $10.7 million, when combined with HPI'S current investment level in LIHTC Properties, will be within the Investment Limitation.

For the Commission, by the Division of Investment Management, pursuant to delegated authority.
Margaret H. McFarland,
Deputy Secretary.

[FR Doc. 00-13953 Filed 6-2-00; 8:45 am]

BILLING CODE 8010-01-M